DEPARTMENT OF THE TREASURY

Office of Thrift Supervision

[AC-09: OTS Nos. H-3797 and 00386]

Michigan City Savings and Loan Association, Michigan City, IN; Approval of Conversion

Notice is hereby given that on November 13, 2001, the Director, Examination Policy, Office of Thrift Supervision (“OTS”), or her designee, acting pursuant to delegated authority, approved the application of Michigan City Savings and Loan Association, Michigan City, Indiana, to convert to the stock form of organization. Copies of the application are available for inspection by appointment (phone number: 202-906-5922 or e-mail: Public.Info@OTS.Treas.gov) at the Public Reading Room, OTS, 1700 G Street, NW, Washington, DC 20552, and the OTS Central Regional Office, 1 South Wacker Drive, Suite 2000, Chicago, Illinois 60606.

Dated: November 14, 2001.
By the Office of Thrift Supervision.
Nadine Y. Washington,
Corporate Secretary.

[FR Doc. 01-28840 Filed 11-16-01; 8:45 am]

BILLING CODE 6720-01-M